GENERAL SERVICES ADMINISTRATION

41 CFR Parts 300-90, 301-74, Appendix E to Chapter 301

[FTR Case 2021-301-01; Docket No. GSA-FTR-2021-0011, Sequence No. 2]

RIN 3090-AK41

Federal Travel Regulation; Removal and Reservation Telework Travel Expenses Test Programs and Suggested Guidance for Conference Planning

AGENCY: Office of Government-wide Policy (OGP), General Services Administration (GSA).

ACTION: Final rule.

SUMMARY: GSA is amending the Federal Travel Regulation (FTR) to remove and reserve the regulations implementing the Administrator of General Services' authority to authorize agencies to conduct telework travel expenses test programs. The Administrator's authority to authorize agencies to conduct such test programs expired in accordance with the William M. (Mac) Thornberry National Defense Authorization Act for Fiscal Year 2021. GSA is also removing and reserving regulations, that contain suggested guidance for conference planning.

DATES: Effective November 3, 2021.

FOR FURTHER INFORMATION CONTACT: Ms. Jill Denning, Program Analyst, at 202-208-7642 or travelpolicy@gsa.gov for clarification of content. For information pertaining to status or publication schedules, contact the Regulatory Secretariat Division at 202-501-4755 or GSARegSec@gsa.gov. Please cite FTR Case 2021-301-01.

SUPPLEMENTARY INFORMATION:

I. Background

This final rule, published as a proposed rule on May 14, 2021 (86 FR 26455), first amends the FTR to remove and reserve part 300-90. Originally, this part was included in the FTR due to the enactment of Public Law (Pub. L.) 111-292, the “Telework Enhancement Act of 2010,” codified at 5 U.S.C. 5711, which authorized the creation of agency telework travel expenses test programs subject to approval by the Administrator of General Services.

When submitting a test program proposal to GSA, agencies were directed to include an analysis of the expected cost and benefits and a set of criteria for evaluating the effectiveness of the program. Once approved, participating agencies were required to submit an annual report on the results of the test program, including overall costs and benefits.

Only one Federal agency, the United States Patent and Trademark Office (USPTO), requested and then implemented a telework travel expenses test program under this authority. When Public Law 116-283 became effective on January 1, 2021, it made the USPTO telework travel expenses program permanent. At that time, the law did not extend the Administrator of General Services' authority to approve telework travel expenses test programs, so it expired as of December 31, 2020, making part 300-90 no longer necessary.

GSA is also removing and reserving Appendix E to Chapter 301 of the FTR, “Suggested Guidance for Conference Planning,” first published January 10, 2000 (65 FR 1329). As noted in the title, the guidance is suggested, not a mandatory set of instructions agencies must follow when planning a conference. Some readers have found the word “suggested” in the title confusing and duplicative, considering similar regulatory instructions regarding conference planning are located in FTR part 301-74. GSA believes that general information on how to plan a conference, the focus of Appendix E, is now more widely available through non-Governmental and professional resources than it was when the Appendix was first published.

Finally, one reference to Appendix E that was in regulatory text is also removed in accordance with the above.

II. Discussion of Final Rule

This rule removes and reserves both part 300-90 and Appendix E to Chapter 301 of the FTR. GSA received no comments in response to the proposed rule.

III. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, is not subject to review under Section 6(b) of E.O. 12866, Regulatory Planning and Review, dated September 30, 1993.

IV. Congressional Review Act

Subtitle E of the Small Business Regulatory Enforcement Fairness Act of 1996 (codified at 5 U.S.C. 801-808), also known as the Congressional Review Act or CRA, generally provides that before a rule may take effect, the agency promulgating the rule must submit a rule report, which includes a copy of the rule, to each House of the Congress and to the Comptroller General of the United States. OIRA has determined that this rule is not a major rule under 5 U.S.C. 804(2), therefore, GSA did not submit a rule report.

V. Regulatory Flexibility Act

This final rule will not have a significant economic impact on a substantial number of small entities within the meaning of the Regulatory Flexibility Act, 5 U.S.C. 601, et seq. This final rule is also exempt from the Administrative Procedure Act pursuant to 5 U.S.C. 553(a)(2) because it applies to agency management or personnel. Therefore, an Initial Regulatory Flexibility Analysis was not performed.

VI. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects in 41 CFR Parts 300-90 and 301-74, and Appendix E to Chapter 301

Government employees, Reporting and recordkeeping requirements, Travel and transportation expenses.

Robin Carnahan,
Administrator of General Services.

Therefore, under the authority 5 U.S.C. 5707 and 5711, GSA removes 41 CFR parts 300-90, amends 301-74, and removes Appendix E to Chapter 301 as set forth below:

PART 300-90—[REMOVED AND RESERVED]

1. Remove and reserve part 300-90.

PART 301-74-CONFERENCE PLANNING

2. The authority citation for 41 CFR 301-74 continues to read as follows:

Authority: 5 U.S.C. 5707.

§ 301-74.4 [Amended]

3. Amend § 301-74.4 by removing the last sentence of the paragraph.

Appendix E to Chapter 301—[Removed and Reserved]

4. Remove and reserve Appendix E to Chapter 301.

[FR Doc. 2021-21391 Filed 10-1-21; 8:45 am]

BILLING CODE P